DEPARTMENT OF THE TREASURY

Agency Information Collection Activities; Submission for OMB Review; Comment Request; Multiple Internal Revenue Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before July 1, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Internal Revenue Service (IRS)

1. Title: Recapture of Investment Credit.

OMB Control Number: 1545-0166.

Type of Review: Revision of a currently approved collection.

Description: IRC section 50(a) and Regulation section 1.47 require that taxpayers attach a statement to their return showing the computation of the recapture tax when investment credit property is disposed of before the end of the recapture period used in the original computation of the investment credit.

Form: 4255.

Affected Public: Businesses or other for-profits.

Estimated Number of Respondents: 1,320.

Frequency of Response: On occasion.

Estimated Total Number of Annual Responses: 1,320.

Estimated Time per Response: 9.81 hours.

Estimated Total Annual Burden Hours: 12,949.

2. Title: Tax on Accumulation Distribution of Trusts.

OMB Control Number: 1545-0192.

Type of Review: Extension without change of a currently approved collection.

Description: Form 4970 is used by a beneficiary of a domestic or foreign trust to compute the tax adjustment attributable to an accumulation distribution. The form is used to verify whether the correct tax has been paid on the accumulation distribution.

Form: 4970.

Affected Public: Individuals and households.

Estimated Number of Respondents: 30,000.

Frequency of Response: Annually.

Estimated Total Number of Annual Responses: 30,000.

Estimated Time per Response: 1.43 hours.

Estimated Total Annual Burden Hours: 42,900.

3. Title: Election to Postpone Determination as to whether the Presumption Applies that an activity is engaged in for profit.

OMB Control Number: 1545-0195.

Type of Review: Extension without change of a currently approved collection.

Description: This form is used by individuals, partnerships, estates, trusts, and S corporations to make an election to postpone an IRS determination as to whether an activity is engaged in for profit for 5 years (7 years for breeding, training, showing, or racing horses). The data is used to verify eligibility to make the election.

Form: 5213.

Affected Public: Businesses or other for-profits.

Estimated Number of Respondents: 3,541.

Frequency of Response: On occasion.

Estimated Total Number of Annual Responses: 3,541.

Estimated Time per Response: 46 minutes.

Estimated Total Annual Burden Hours: 2,762.

4. Title: Installment Sale Income.

OMB Control Number: 1545-0228.

Type of Review: Extension without change of a currently approved collection.

Description: Information is needed to figure and report an installment sale for a casual or incidental sale of personal property, and a sale of real property by someone not in the business of selling real estate. Data is used to determine whether the installment sale has been properly reported and the correct amount of profit is included in income on the taxpayer's return.

Form: 6252.

Affected Public: Businesses or other for-profits.

Estimated Number of Respondents: 521,898.

Frequency of Response: Annually.

Estimated Total Number of Annual Responses: 521,898.

Estimated Time per Response: 3 hours.

Estimated Total Annual Burden Hours: 1,597,008.

5. Title: Certificate of Payment of Foreign Death Tax.

OMB Control Number: 1545-0260.

Type of Review: Extension without change of a currently approved collection.

Description: Form 706-CE is used by the executors of estates to certify that foreign death taxes have been paid so that the estate may claim the foreign death tax credit allowed by IRS section 2014. The information is used by IRS to verify that the proper tax credit has been claimed.

Form: 706-CE.

Affected Public: Individuals and households.

Estimated Number of Respondents: 2,250.

Frequency of Response: On occasion.

Estimated Total Number of Annual Responses: 2,250.

Estimated Time per Response: 1.72 hours.

Estimated Total Annual Burden Hours: 3,870.

6. Title: Excise Tax; Tractors, Trailers, Trucks, and Tires; Reporting & Recordkeeping Requirements.

OMB Control Number: 1545-0745.

Type of Review: Extension without change of a currently approved collection.

Description: This collection contains proposed amendments to the Highway Use Tax Regulations (26 CFR part 41), the Manufacturers and Retailers Excise Tax Regulations (26 CFR part 48), and the Temporary Excise Tax Regulations under the Highway Revenue Act of 1982 (Pub. L. 97-424) (26 CFR part 145). REG-103380-05 contains proposed regulations relating to the excise taxes imposed on the sale of highway tractors, trailers, trucks, and tires; the use of heavy vehicles on the highway; and the definition of highway vehicle related to these and other taxes. These proposed regulations reflect legislative changes and court decisions regarding these topics. These proposed regulations affect manufacturers, producers, importers, dealers, retailers, and users of certain highway tractors, trailers, trucks, and tires.

Form: None.

Affected Public: Businesses or other for-profits.

Estimated Number of Respondents: 7,100.

Frequency of Response: Annually, On Occasion.

Estimated Total Number of Annual Responses: 7,100.

Estimated Time per Response: 41 minutes.

Estimated Total Annual Burden Hours: 4,890.

7. Title: Disclosure of reportable transactions.

OMB Control Number: 1545-0865.

Type of Review: Extension without change of a currently approved collection.

Description: Internal Revenue Code (IRC) 6111 requires a sub-set of promoters called “material advisors” to disclose information about the promotion of certain types of transactions called “reportable transactions.” Material advisors to any reportable transaction must disclose certain information about the reportable transaction by filing a Form 8918 with the IRS. Material advisors who file a Form 8918 will receive a reportable transaction number from the IRS. Material advisors must provide the reportable transaction number to all taxpayers and material advisors for whom the material advisor acts as a material advisor.

Form: 8918.

Affected Public: Businesses or other for-profits.

Estimated Number of Respondents: 35.

Frequency of Response: On occasion.

Estimated Total Number of Annual Responses: 35.

Estimated Time per Response: 14.5 hours.

Estimated Total Annual Burden Hours: 510.

8. Title: Information Return for Publicly Offered Original Issue Discount Instruments.

OMB Control Number: 1545-0887.

Type of Review: Extension without change of a currently approved collection.

Description: Form 8281 is filed by the issuer of a publicly offered debt instrument having OID. The information is used to update Pub. 1212, Guide to Original Issue Discount (OID) Instruments, to enable brokers and other middlemen to identify publicly traded OID obligations, which they may hold as nominees for the true owners, so that they can meet the requirement to file Forms 1099-INT and 1099-OID as required by section 6049.

Form: 8281.

Affected Public: Businesses or other for-profits.

Estimated Number of Respondents: 500.

Frequency of Response: On occasion.

Estimated Total Number of Annual Responses: 500.

Estimated Time per Response: 6.1 hours.

Estimated Total Annual Burden Hours: 3,060.

9. Title: Registration Requirements with Respect to Debt Obligations.

OMB Control Number: 1545-0945.

Type of Review: Extension without change of a currently approved collection.

Description: The previously approved rule requires an issuer of a registration-required obligation and any person holding the obligation as a nominee or custodian on behalf of another to maintain ownership records in a manner which will permit examination by the IRS in connection with enforcement of the Internal Revenue laws.

Form: None.

Affected Public: Businesses or other for-profits.

Estimated Number of Respondents: 50,000.

Frequency of Response: Annually.

Estimated Total Number of Annual Responses: 50,000.

Estimated Time per Response: 1 hour.

Estimated Total Annual Burden Hours: 50,000.

10. Title: Return of Excise Tax on Undistributed Income of Regulated Investment Companies.

OMB Control Number: 1545-1016.

Type of Review: Extension without change of a currently approved collection.

Description: Form 8613 is used by regulated investment companies to compute and pay the excise tax on undistributed income imposed under section 4982. IRS uses the information to verify that the correct amount of tax has been reported.

Form: 8613.

Affected Public: Businesses or other for-profits.

Estimated Number of Respondents: 1,500.

Frequency of Response: Annually.

Estimated Total Number of Annual Responses: 1,500.

Estimated Time per Response: 11.8 hours.

Estimated Total Annual Burden Hours: 17,820.

11. Title: Allocation of Estimated Tax Payments to Beneficiaries.

OMB Control Number: 1545-1020.

Type of Review: Extension without change of a currently approved collection.

Description: This form was developed to allow a trustee of a trust or an executor of an estate to make an election under IRC section 643(g) to allocate any payment of estimated tax to a beneficiary(ies). This form serves as a transmittal so that Service Center personnel can determine the correct amounts that are to be transferred from the fiduciary's account to the individual's account.

Form: 1041-T.

Affected Public: Businesses or other for-profits.

Estimated Number of Respondents: 1,000.

Frequency of Response: Annually.

Estimated Total Number of Annual Responses: 1,000.

Estimated Time per Response: 59 minutes

Estimated Total Annual Burden Hours: 990.

12. Title: Recapture of Low-Income Housing Credit.

OMB Control Number: 1545-1035.

Type of Review: Revision of a currently approved collection.

Description: IRC section 42 permits owners of residential rental projects providing low-income housing to claim a credit against their income tax. If the property is disposed of or it falls to meet certain requirements over a 15-year compliance period and a bond is not posted, the owner must recapture on Form 8611 part of the credit(s) taken in prior years.

Form: 8611.

Affected Public: Businesses or other for-profits.

Estimated Number of Respondents: 100.

Frequency of Response: Annually.

Estimated Total Number of Annual Responses: 100

Estimated Time per Response: 9.56 hours.

Estimated Total Annual Burden Hours: 956.

13. Title: Application for Withholding Certificate for Dispositions by Foreign Persons of U.S. Real Property Interests.

OMB Control Number: 1545-1060.

Type of Review: Revision of a currently approved collection.

Description: Form 8288-B is used to apply for a withholding certification from IRS to reduce or eliminate the withholding required by section 1445.

Form: 8288-B.

Affected Public: Businesses or other for-profits.

Estimated Number of Respondents: 508.

Frequency of Response: On occasion.

Estimated Total Number of Annual Responses: 508.

Estimated Time per Response: 5.75 hours.

Estimated Total Annual Burden Hours: 2,926.

14. Title: Certain Cash or Deferred Arrangements and Employee and Matching Contributions under Employee Plans and Retirement Plans; Cash or Deferred Arrangements.

OMB Control Number: 1545-1069.

Type of Review: Extension without change of a currently approved collection.

Description: The IRS needs this information to insure compliance with sections 401(k), 401(m), and 4979 of the Internal Revenue Code. Certain additional taxes may be imposed if sections 401(k) and 401(m) are not complied with.

Form: None.

Affected Public: Businesses or other for profits.

Estimated Number of Respondents: 355,500.

Frequency of Response: Annually.

Estimated Total Number of Annual Responses: 355,500.

Estimated Time per Response: 2.98 hours per response.

Estimated Total Annual Burden Hours: 1,060,000.

15. Title: TD 8400—(Final) Taxation of Gain or Loss from Certain Nonfunctional Currency Transactions (Section 988 Transactions).

OMB Control Number: 1545-1131.

Type of Review: Extension without change of a currently approved collection.

Description: This document, TD 8400, contains previously approved final regulations regarding the taxation of gain or loss from certain foreign currency transactions and applies to taxpayers engaging in such transactions. Section 988 of the Internal Revenue Code concerns the taxation of exchange gain or loss on certain foreign currency denominated transactions. Such gains and losses are characterized as ordinary income or loss. However, under section 988(a)(1)(B) taxpayers may elect to characterize exchange gain or loss on certain transactions as capital gain or loss. Section 1.988-3(b) of the regulations provides the procedure for making the election. Under section 988(c)(1)(D)(ii), taxpayers may elect to have regulated futures contracts and certain options (which generally are not subject to section 988) treated as section 988 transactions. Sections 1.988-1(a)(4)(iii) and (iv) provide the procedure for making that election. Under section 988(c)(1)(E)(iii), a commodity fund may elect special treatment under section 988. Section 1.988-1(a)(5)(iv) provides the procedure for making that election. Under section 988(d) taxpayers may receive special treatment if they identify certain transactions. The identification rules are in sections 1.988-5(a)(8), 1.988-5(b)(3), 1.988-5(c)(2) and 1.988-5(d)(2)(i)(A).

Form: None.

Affected Public: Businesses or other for profits.

Estimated Number of Respondents: 5,000.

Frequency of Response: Annually.

Estimated Total Number of Annual Responses: 5,000.

Estimated Time per Response: .67 hours per response.

Estimated Total Annual Burden Hours: 3,333.

16. Title: Change of Address (For Individual, Gift, Estate, or Generation-Skipping Transfer Tax Returns) and Change of Address—Business.

OMB Control Number: 1545-1163.

Type of Review: Revision of a currently approved collection.

Description: Form 8822 and 8822-B are used by taxpayers to furnish their change of address to the Internal Revenue Service. Form 8822 is used by individual taxpayers while Form 8822-B will be used by business taxpayers.

Form: 8822, 8822-B.

Affected Public: Individuals or Households, Businesses or other for profits.

Estimated Number of Respondents: 860,500.

Frequency of Response: On Occasion.

Estimated Total Number of Annual Responses: 860,500.

Estimated Time per Response: .3 hours per response.

Estimated Total Annual Burden Hours: 222,942.

17. Title: INTL-21-91 (TD 8656—Final) Section 6662—Imposition of the Accuracy-Related Penalty.

OMB Control Number: 1545-1426.

Type of Review: Extension without change of a currently approved collection.

Description: These previously approved regulations provide guidance about substantial and gross valuation misstatements as defined in sections 6662(e) and 6662(h). They also provide guidance about the reasonable cause and good faith exclusion. The regulations apply to taxpayers who have transactions between persons described in section 482 and not section 482 transfer price adjustments.

Form: None.

Affected Public: Businesses or other for profits.

Estimated Number of Respondents: 2,500.

Frequency of Response: Annually.

Estimated Total Number of Annual Responses: 2,500.

Estimated Time per Response: 8.05 hours per response.

Estimated Total Annual Burden Hours: 20,125.

18. Title: Voluntary Customer Surveys to Implement E.O. 12862 Coordinated by the Corporate Planning and Performance Division on Behalf of All IRS Operations Functions.

OMB Control Number: 1545-1432.

Type of Review: Revision of a currently approved collection.

Description: This is a generic clearance for an undefined number of customer satisfaction and opinion surveys and focus group interviews to be conducted over the next three years. Surveys and focus groups conducted under the generic clearance are used by the Internal Revenue Service to determine levels of customer satisfaction as well as determining issues that contribute to customer burden. This information will be used to make quality improvements to products and services.

Form: Generic Customer Feedback Surveys.

Affected Public: Individuals or households, business or other for-profit organizations, not-for-profit institutions, farms and Federal, state, local or tribal governments.

Estimated Number of Respondents: 100,000.

Frequency of Response: On Occasion.

Estimated Total Number of Annual Responses: 100,000.

Estimated Time per Response: .25 hours per response.

Estimated Total Annual Burden Hours: 40,000.

19. Title: TD 8643 (Final) Distributions of Stock and Stock Rights.

OMB Control Number: 1545-1438.

Type of Review: Revision of a currently approved collection.

Description: The requested information is required to notify the Service that a holder of preferred stock callable at a premium by the issuer has made a determination regarding the likelihood of exercise of the right to call that is different from the issuer's determination.

Form: None.

Affected Public: Businesses or other for-profits.

Estimated Number of Respondents: 2,000.

Frequency of Response: Annually.

Estimated Total Number of Annual Responses: 2,000.

Estimated Time per Response: .17 hours per response.

Estimated Total Annual Burden Hours: 333.

20. Title: Empowerment Zone Employment Credit.

OMB Control Number: 1545-1444.

Type of Review: Revision of a currently approved collection.

Description: The empowerment zone employment (EZE) credit is part of the general business credit under section 38. However, unlike the other components of the general business credit, taxpayers are allowed to offset 25 percent of their alternative minimum tax with the EZE credit.

Form: 8844.

Affected Public: Business or other for-profit organizations.

Estimated Number of Respondents: 25.

Frequency of Response: Annually.

Estimated Total Number of Annual Responses: 25.

Estimated Time per Response: 6.33 hours per response.

Estimated Total Annual Burden Hours: 158.

21. Title: Form 5304-SIMPLE; Form 5305-SIMPLE; Notice 98-4.

OMB Control Number: 1545-1502.

Type of Review: Extension without change of a currently approved collection.

Description: Forms 5304-SIMPLE and 5035-SIMPLE are used by an employer to permit employees to make salary reduction contributions to a savings incentive match plan (SIMPLE IRA) described in Code section 408(p). These forms are not to be filed with IRS, but to be retained in the employers' records as proof of establishing such a plan, thereby justifying a deduction for contributions made to the SIMPLE IRA. The data is used to verify the deduction. Notice 98-4 provides guidance for employers and trustees regarding how they can comply with the requirements of Code section 408(p) in establishing and maintaining a SIMPLE Plan

Form: 5304 Simple, 5305 Simple.

Affected Public: Business or other for-profit organizations.

Estimated Number of Respondents: 600,000.

Frequency of Response: Annually.

Estimated Total Number of Annual Responses: 600,000.

Estimated Time per Response: 3.52 hours per response.

Estimated Total Annual Burden Hours: 2,113,000.

22. Title: Notice 97-34—Information Reporting on Transactions With Foreign Trusts and on Large Foreign Gifts.

OMB Control Number: 1545-1538.

Type of Review: Extension without change of a currently approved collection.

Description: This notice provides guidance on the foreign trust and foreign gift information reporting provisions contained in the Small Business Job Protection Act of 1996.

Form: None.

Affected Public: Businesses or other for profits.

Estimated Number of Respondents: 5,000.

Frequency of Response: Annually.

Estimated Total Number of Annual Responses: 5,000.

Estimated Time per Response: .75 hours per response.

Estimated Total Annual Burden Hours: 3,750.

23. Title: Changes in Corporate Control and Capital Structure.

OMB Control Number: 1545-1814.

Type of Review: Revision of a currently approved collection.

Description: Any corporation that undergoes reorganization under Regulation section 1.6043-4T with stock, cash, and other property over $100 million must file Form 1099-CAP with the IRS shareholders.

Form: 1099-CAP.

Affected Public: Businesses or other for profits.

Estimated Number of Respondents: 600.

Frequency of Response: Annually.

Estimated Total Number of Annual Responses: 600.

Estimated Time per Response: .18 hours per response.

Estimated Total Annual Burden Hours: 108.

24. Title: Disclosure of Returns and Return Information to Designee of Taxpayer.

OMB Control Number: 1545-1816.

Type of Review: Extension without change of a currently approved collection.

Description: Under section 6103(a), returns and return information are confidential unless disclosure is otherwise authorized by the Code. Section 6103(c), as amended in 1996 by section 1207 of the Taxpayer Bill of Rights II, Public Law 104-168 (110 Stat. 1452), authorizes the IRS to disclose returns and return information to such person or persons as the taxpayer may designate in a request for or consent to disclosure, or to any other person at the taxpayer's request to the extent necessary to comply with a request for information or assistance made by the taxpayer to such other person. Disclosure is permitted subject to such requirements and conditions as may be prescribed by regulations. With the amendment in 1996, Congress eliminated the longstanding requirement that disclosures to designees of the taxpayer must be pursuant to the written request or consent of the taxpayer.

Form: None.

Affected Public: Businesses or other for profits.

Estimated Number of Respondents: 4,000.

Frequency of Response: On Occasion.

Estimated Total Number of Annual Responses: 4,000.

Estimated Time per Response: .2 hours per response.

Estimated Total Annual Burden Hours: 800.

25. Title: Excise Tax on Structured Settlement Factoring Transactions.

OMB Control Number: 1545-1826.

Type of Review: Extension without change of a currently approved collection.

Description: Form 8876 is used to report and pay the 40% excise tax imposed under section 5891 on the factoring discount of a structured settlement factoring transaction.

Form: 8876.

Affected Public: Businesses or other for profits.

Estimated Number of Respondents: 100.

Frequency of Response: On Occasion.

Estimated Total Number of Annual Responses: 100.

Estimated Time per Response: 5.6 hours per response.

Estimated Total Annual Burden Hours: 560.

26. Title: Systemic Advocacy Issue Submission Form.

OMB Control Number: 1545-1832.

Type of Review: Extension without change of a currently approved collection.

Description: Form 14411 is to be used by individuals, businesses, practitioners and other public groups to identify systemic problems that taxpayers are encountering with IRS. This form will be submitted electronically via the IRS.gov website. Mailed or faxed forms will be accepted and are necessary.

Form: 14411.

Affected Public: Businesses or other for profits.

Estimated Number of Respondents: 420.

Frequency of Response: On Occasion.

Estimated Total Number of Annual Responses: 420.

Estimated Time per Response: .8 hours per response.

Estimated Total Annual Burden Hours: 336.

27. Title: Form 8621-A—Return by a Shareholder Making Certain Late Elections To End Treatment as a Passive Foreign Investment Company.

OMB Control Number: 1545-1950.

Type of Review: Revision of a currently approved collection.

Description: Form 8621-A is used by certain taxpayer/investors to request ending of their treatment as investing in a Passive Foreign Investment Company. New regulations are being written in support of the new products. The underlying law is in IRC sections 1297 and 1298. This is a reinstatement of a previously approved OMB collection.

Form: 8621-A.

Affected Public: Individuals or Households.

Estimated Number of Respondents: 1.

Frequency of Response: Annually.

Estimated Total Number of Annual Responses: 1.

Estimated Time per Response: 78.5 hours per response.

Estimated Total Annual Burden Hours: 79.

28. Title: Form 13285-A—Reducing Tax Burden on America's Taxpayers.

OMB Control Number: 1545-2009.

Type of Review: Extension without change of a currently approved collection.

Description: Form 13285-A is used by taxpayers and external partners and stakeholders to identify meaningful taxpayer burden reduction opportunities. Employees will make the forms available at education and outreach events.

Form: 13285-A.

Affected Public: Businesses or other for profits.

Estimated Number of Respondents: 250.

Frequency of Response: On Occasion.

Estimated Total Number of Annual Responses: 250.

Estimated Time per Response: .25 hours per response.

Estimated Total Annual Burden Hours: 62.

29. Title: Revocation of Election filed under I.R.C. 83(b).

OMB Control Number: 1545-2018.

Type of Review: Extension without change of a currently approved collection.

Description: This revenue procedure sets forth the procedures to be followed by individuals who wish to request permission to revoke the election they made under section 83(b).

Form: None.

Affected Public: Individuals or Households.

Estimated Number of Respondents: 200.

Frequency of Response: On Occasion.

Estimated Total Number of Annual Responses: 200.

Estimated Time per Response: 2 hours per response.

Estimated Total Annual Burden Hours: 400.

30. Title: Obligations principally secured by an interest in real property.

OMB Control Number: 1545-2110.

Type of Review: Revision of a currently approved collection.

Description: This collection covers final regulations under section 1.860G-2 that expand the list of permitted loan modifications to include certain modifications that are often made to commercial mortgages. The collection of information in this regulation is in section 1.860G-2(b) (7). To establish that the 80-percent test is met at the time of modification, the servicer must obtain an appraisal or some other form of commercially reasonable valuation (the appraisal requirement). This information is required to show that modifications to mortgages permitted will not cause the modified mortgage to cease to be a qualified mortgage.

Form: None.

Affected Public: Businesses or other for profits.

Estimated Number of Respondents: 375.

Frequency of Response: Annually.

Estimated Total Number of Annual Responses: 375.

Estimated Time per Response: 8 hours per response.

Estimated Total Annual Burden Hours: 3,000.

31. Title: Benefit suspensions for multiemployer plans.

OMB Control Number: 1545-2260.

Type of Review: Extension without change of a currently approved collection.

Description: Respondents are sponsors of collectively bargained retirement trusts in significant financial distress. The MPRA allows a respondent to apply to Treasury for approval to suspend benefit payments. If an application is approved, Treasury must then administer a vote by participants on whether to accept or reject the suspension. The regulation provides detailed voting procedures. The information collection is necessary to establish the voting process.

Form: None.

Affected Public: Businesses or other for profits.

Estimated Number of Respondents: 28.

Frequency of Response: Once.

Estimated Total Number of Annual Responses: 28.

Estimated Time per Response: 500 hours per response.

Estimated Total Annual Burden Hours: 14,000.

Authority: 44 U.S.C. 3501 et seq.

Dated: May 23, 2019.
Spencer W. Clark,
Treasury PRA Clearance Officer.

[FR Doc. 2019-11232 Filed 5-29-19; 8:45 am]

BILLING CODE 4830-01-P